Proclamation 8847 of August 6, 2012

National Health Center Week, 2012

By the President of the United States of America

A Proclamation

For nearly half a century, health centers have helped make primary care services available and affordable for millions of Americans. From coast to coast, they deliver critical support for patients by not only providing treatment for those in need, but also emphasizing preventive care that helps people lead healthier lives. During National Health Center Week, we recognize the professionals who power our Nation's health centers and renew our support for these essential health care resources.

Health centers play a key role in bringing vital health care services to 20 million Americans from all walks of life. They lift up rural and urban neighborhoods alike, extending community-based, patient-directed care to those who need it most. Through their work, health centers strengthen our health care system by helping reduce emergency room visits and easing health care burdens for families across America.

My Administration is working to empower health centers with the resources they need to provide comprehensive, high-quality care for more individuals. Thanks primarily to the Affordable Care Act and the American Recovery and Reinvestment Act, health centers are serving nearly 3 million additional patients. Last year, my Administration launched an initiative to support 500 health centers in 44 States as they seek to expand their ability to better coordinate patient care. This May, my Administration expanded on that progress by announcing Affordable Care Act funding that will support hundreds of renovation and construction projects at health centers nationwide.

As we continue to build a health care system ready to meet patients' needs today and tomorrow, health centers will remain an integral part of our communities and our country. This week, we celebrate their many contributions to our public health, and to providing more Americans with accessible, affordable health care.

NOW, THEREFORE, I, BARACK OBAMA, President of the United States of America, by virtue of the authority vested in me by the Constitution and the laws of the United States, do hereby proclaim the week of August 5 through August 11, 2012, as National Health Center Week. I encourage all Americans to celebrate this week by visiting their local health center, meeting health center providers, and exploring the programs they offer to help keep families healthy.

IN WITNESS WHEREOF, I have hereunto set my hand this sixth day of August, in the year of our Lord two thousand twelve, and of the Independence of the United States of America the two hundred and thirty-seventh.

[FR Doc. 2012-19749

Filed 8-8-12; 11:15 am]

Billing code 3295-F2-P